INTERNATIONAL TRADE COMMISSION

[Investigations Nos. 701-TA-422-425 and 731-TA-964-983 (Final)]

Certain Cold-Rolled Stell Products from Argentina, Australia, Belgium, Brazil, China, France, Germany, India, Japan, Korea, The Netherlands, New Zealand, Russia, South Africa, Spain, Sweden, Taiwan, Thailand, Turkey, and Venezuela

AGENCY: International Trade Commission.

ACTION: Revised schedule for the subject investigations.

EFFECTIVE DATE: August 2, 2002.

FOR FURTHER INFORMATION CONTACT: Fred Fischer (202-205-3179 / ffischer@usitc.gov), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS-ON-LINE) at http://dockets.usitc.gov/eol/public.

SUPPLEMENTARY INFORMATION: On June 3, 2002, the Commission established a schedule for the conduct of the final phase of the subject investigations (67 FR 38291, June 3, 2002). Because official import statistics of Commerce for June 2002 will not be available to the Commission and the public until August 20, 2002, the Commission is revising its schedule.

The Commission's new schedule for the investigations is as follows: The Commission will make its final release of information on August 21, 2002; and final party comments are due on August 23, 2002.

For further information concerning these investigations see the Commission's notice cited above and the Commission's rules of practice and procedure, part 201, subparts A through E (19 CFR part 201), and part 207, subparts A and C (19 CFR part 207).

Authority: These investigations are being conducted under authority of title VII of the Tariff Act of 1930; this notice is published pursuant to § 207.21 of the Commission's rules.

By order of the Commission.
Issued: August 2, 2002
Marilyn R. Abbott,
Secretary to the Commission.

[FR Doc. 02-20059 Filed 8-7-02; 8:45 am]

BILLING CODE 7020-02-P